GENERAL SERVICES ADMINISTRATION

[Notice MG-2024-03; Docket No. 2024-0002; Sequence No. 19]

Office of Federal High-Performance Green Buildings; Green Building Advisory Committee; Request for Membership Nominations

AGENCY: Office of Government-wide Policy, General Services Administration (GSA).

ACTION: Notice of request for membership nominations.

SUMMARY: This notice invites qualified candidates to apply for an appointment to serve as a member of GSA's Green Building Advisory Committee. The Green Building Advisory Committee provides advice to GSA as a statutorily (see below for citations) required Federal advisory committee. This is a competitive process for multiple open membership seats.

DATES: All nominations must be submitted to bryan.steverson@gsa.gov by 5:00 p.m., Eastern Time (ET), by November 27, 2024.

FOR FURTHER INFORMATION CONTACT: Mr. Bryan Steverson, Office of Federal High-Performance Green Buildings, GSA, at bryan.steverson@gsa.gov or 202-501-6115.

SUPPLEMENTARY INFORMATION:

Background

The Administrator of the GSA established the Green Building Advisory Committee (hereafter, “the Committee”) on June 20, 2011 (76 FR 118) pursuant to section 494 of the Energy Independence and Security Act of 2007 (42 U.S.C. 17123, or EISA), in accordance with the provisions of the Federal Advisory Committee Act (FACA), as amended (5 U.S.C. 1001 et seq.). Under this authority, the Committee advises GSA on how the Office of Federal High-Performance Green Buildings can most effectively accomplish its mission. Information about this Office is available online at https://www.gsa.gov/hpb, and information about the Committee may be found at https://www.gsa.gov/gbac. EISA requires the Committee to be represented by specific categories of members as well as “other relevant agencies and entities, as determined by the Federal Director” (EISA § 494(b)(1)(B)). The specific categories of members include:

“(i) State and local governmental green building programs;

(ii) Independent green building associations or councils;

(iii) Building experts, including architects, material suppliers, and construction contractors;

(iv) Security advisors focusing on national security needs, natural disasters, and other dire emergency situations;

(v) Public transportation industry experts; and

(vi) Environmental health experts, including those with experience in children's health.”

Member Responsibilities

New Committee members will be appointed to a three year term. Membership is limited to the specific individuals appointed and is non-transferrable. Committee members are expected to personally attend all meetings, review all Committee materials, and actively provide their advice and input on topics covered by the Committee. Committee members will not receive compensation, nor will they receive travel reimbursements from the Government except where a need has been demonstrated and funds are available.

Request for Membership Nominations

This notice provides an opportunity for individuals, or others on their behalf, to present their qualifications to serve as a member on the Committee. GSA values and welcomes diversity. In an effort to obtain nominations of diverse candidates, GSA encourages nominations from people of all communities, identities, races, ethnicities, backgrounds, abilities, cultures, and beliefs, including from underserved communities and all geographic locations of the United States of America. No person appointed to serve in an individual capacity shall be a federally registered lobbyist in accordance with the Presidential Memorandum “Lobbyists on Agency Boards and Commissions” (June 18, 2010) and OMB Final Guidance published in the Federal Register on October 5, 2011 and revised on August 13, 2014.

Nomination Process for Advisory Committee Appointment

Individuals may nominate themselves or others. All nominees should have:

• At least 5 years of high-performance green building experience, which may include a combination of project-based, research and policy experience.

• Academic degrees, certifications and/or training demonstrating green building and related sustainability and real estate expertise;

• Knowledge of Federal sustainability and energy laws and programs;

• Proven ability to work effectively with a diverse group of professionals in a collaborative, multidisciplinary environment.

• Qualifications appropriate to a specific statutory category of members listed above.

A nomination package shall include the following information for each nominee:

(1) A letter of nomination stating the name, title and organization of the nominee, nominee's field(s) of expertise, specific qualifications to serve on the Committee, and description of interest and qualifications;

(2) A professional resume or CV; and

(3) Complete contact information including name, return address, email address, and daytime telephone number of the nominee and nominator.

GSA reserves the right to choose Committee members based on qualifications, experience, Committee balance, statutory requirements and all other factors deemed critical to the success of the Committee. Candidates under consideration may be asked to provide specific financial information to ensure that the interests and affiliations of advisory committee members are reviewed for conformance with applicable conflict of interest statutes and other Federal ethics rules.

Kinga Porst Hydras,
Acting Federal Director, Office of Federal High-Performance Green Buildings, Office of Government-Wide Policy, General Services Administration.

[FR Doc. 2024-24971 Filed 10-25-24; 8:45 am]

BILLING CODE 6820-14-P